DEPARTMENT OF DEFENSE

Department of the Navy

Notice of Closed Meeting of the Chief of Naval Operations (CNO) Executive Panel

AGENCY: Department of the Navy, DoD.

ACTION: Notice.

SUMMARY: The CNO Executive Panel will report on the findings and recommendations of the Northeast Asia Subcommittee to the Chief of Naval Operations. The meeting will consist of presentations, briefs, and discussions of the following topics that have been classified at the SECRET Level: Current and future Navy strategy; plans, and policies in support of U.S. deterrence planning crisis management and conflict escalation and control in Northeast Asia. The executive session of this meeting will be closed to the public.

The discussion of such information would be exempt from public disclosure as set forth in section 552b(c)(5), (6), and (7) of title 5, United States Code. For this reason, the executive session of this meeting will be closed to the public.

DATES: The closed Executive Session will be held on March 11th, 2009 from 9:30 a.m. to 12 p.m.

ADDRESSES: The meeting will be held at CNA, 4825 Mark Center Drive, Alexandria, VA 22311-1846, Room 1A01. The meeting will be handicap accessible.

FOR FURTHER INFORMATION CONTACT: LCDR Eric Taylor, CNO Executive Panel, 4825 Mark Center Drive, Alexandria, VA 22311-1846, telephone: 703-681-4909.

SUPPLEMENTARY INFORMATION: This notice of meeting is provided per the Federal Advisory Committee Act, as amended (5 U.S.C. App.). The executive session of the meeting consists of discussions of classified information. The proposed closed session 9:30 a.m. to 12 p.m. will include a discussion involving future Navy strategy; plans, and policies in support of U.S. deterrence planning crisis management and conflict escalation and control in Northeast Asia. Discussion of such information cannot be adequately segregated from other topics, which precludes opening the executive session of this meeting to the public.

Accordingly, the Secretary of the Navy has determined in writing that the meeting shall be closed to the public because it will be concerned with matters listed in sections 552b(c)(5), and (7) of the title 5, United States Code.

Dated: February 6, 2009.
A.M. Vallandingham,
Lieutenant Commander, Office of the Judge Advocate General, U.S. Navy, Federal Register Liaison Officer.

[FR Doc. E9-2919 Filed 2-10-09; 8:45 am]

BILLING CODE 3810-FF-P